FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than March 3, 2014.

A. Federal Reserve Bank of Atlanta (Chapelle Davis, Assistant Vice President) 1000 Peachtree Street, NE., Atlanta, Georgia 30309:

1. Stephen Richard Winn, Judith Anderson Winn, Leslie W. Sokol, Michelle Stacey Winn, Jason David Winn, 3T.D.A., LLC, all of Tallahassee, Florida; and Susan Beth Winn, South West Ranches, Florida; Edward William Dougherty, Jr., Audrey Kay Dougherty, Igler & Dougherty P.A. 401K Profit Sharing Plan and Trust with Edward Dougherty and George Igler co-trustees, all of Tallahassee, Florida; to retain voting shares of Pro Financial Holdings, Inc., and thereby indirectly retain voting shares of ProBank, both of Tallahassee, Florida.

B. Federal Reserve Bank of Kansas City (Dennis Denney, Assistant Vice President) 1 Memorial Drive, Kansas City, Missouri 64198-0001:

1. Thomas H. Olson, Jr., Julesburg, Colorado; Kerstin Eckstrom, Lincoln, Nebraska; and Lynne Petro, Vestavia, Alabama; as members of the Olson family group, to retain voting shares of First Nebraska Bancs, Inc., Sidney, Nebraska, and thereby indirectly retain voting shares of Points West Community Bank, Julesburg, Colorado, and Point West Community Bank, Sidney, Nebraska.

Board of Governors of the Federal Reserve System, February 11, 2014.
Michael J. Lewandowski,
Associate Secretary of the Board.

[FR Doc. 2014-03258 Filed 2-13-14; 8:45 am]

BILLING CODE 6210-01-P